DEPARTMENT OF STATE

[Public Notice No. 3470]

Shipping Coordinating Committee; Subcommittee on Stability of Load Lines and on Fishing Vessels Safety; Notice of Meeting Cancellation

On November 15, 2000, 65 FR 69118, the United States Coast Guard published Notice #3466 to announce a meeting of the Shipping Coordinating Committee to be held on Monday, December 11, 2000. The purpose of this meeting was to review the agenda items to be considered at the forty-fourth session of the Subcommittee on Stability and Load Lines and on Fishing Vessels Safety (SLF 44) of the International Maritime Organization (IMO).

This notice is to announce that the meeting is cancelled.

For further information, please contact Mr. Paul Cojeen, U.S. Coast Guard Headquarters, Commandant (G-MSE-2), room 1308, 2100 Second Street, SW., Washington, DC 20593-0001 or by calling (202) 267-2988.

Dated: December 6, 2000.
Mira Piplani,
International Transportation and Commercial Officer.

[FR Doc. 00-31584 Filed 12-7-00; 2:26 pm]

BILLING CODE 4710-07-P